SECURITIES AND EXCHANGE COMMISSION

[OMB Control No. 3235-0383]

Agency Information Collection Activities; Proposed Collection; Comment Request; Extension: Form F-7—Registration Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Form F-7 (17 CFR 239.37) is a registration statement under the Securities Act of 1933 (15 U.S.C. 77a et seq.) used to register securities that are offered for cash upon the exercise of rights granted to a registrant's existing security holders to purchase or subscribe such securities. The information collected is intended to ensure the adequacy of information available to investors in connection with securities offerings. We estimate that Form F-7 is filed once per year by an average of 3 respondents annually. We estimate that Form F-7 has a burden of 1 hour per response for an estimated annual reporting burden of 3 hours (1 hour per response × 3 responses annually). We further estimate that Form F-7 has a cost burden of $1,800 per response for an estimated annual cost burden of $5,400 ($1,800 per response × 3 responses annually).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by October 3, 2025. There will be a second opportunity to comment on this SEC request following the Federal Register publishing a 30-Day Submission Notice.

Dated: July 31, 2025.
Sherry R. Haywood,
Assistant Secretary.

[FR Doc. 2025-14698 Filed 8-1-25; 8:45 am]

BILLING CODE 8011-01-P